DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 26, 2010.

Interested persons are invited to submit written comments regarding the subject matter of the investigations to the Director, Division of Trade Adjustment Assistance, at the address shown below, not later than February 26, 2010.

The petitions filed in this case are available for inspection at the Division of Trade Adjustment Assistance, Employment and Training Administration, U.S. Department of Labor, Room N-5428, 200 Constitution Avenue, NW., Washington, DC 20210.

Signed at Washington, DC, this 1st day of February 2010.
Elliott Kushner,
Certifying Officer, Division of Trade Adjustment Assistance.

Appendix
[TAA petitions instituted between 1/4/10 and 1/8/10]
TA-W | Subject firm (petitioners) | Location | Date of institution | Date of petition
73200 | Sabre, Inc. (State) | Southlake, TX | 01/04/10 | 12/31/09
73201 | Louisville Bedding Company (Comp) | Louisville, KY | 01/04/10 | 12/31/09
73202 | Sumtoral Systems (Wkrs) | Bellevue, WA | 01/04/10 | 12/31/09
73203 | Hitachi Automotive Products (USA) (State) | Harrodsburg, KY | 01/04/10 | 12/31/09
73204 | The Tie King, Inc. (Union) | Brooklyn, NY | 01/04/10 | 12/17/09
73205 | Bruno & Canio (Union) | Brooklyn, NY | 01/04/10 | 12/17/09
73206 | Smurfit Stone Container Corporation (Union) | Ontanaagon, MI | 01/04/10 | 12/18/09
73207 | O'neal Steel (State) | Greensboro, NC | 01/05/10 | 12/31/09
73208 | Nomura Asset Management USA, Inc. (Wkrs) | New York, NY | 01/05/10 | 12/12/09
73209 | CL Automotive LLC (Wkrs) | Highland Park, MI | 01/05/10 | 01/04/10
73210 | MetLife (Wkrs) | Moosic, PA | 01/05/10 | 01/04/10
73211 | Waakoneta Machine (ASKO) (Union) | WApakoneta, OH | 01/05/10 | 12/08/09
73212 | Ryko Manufacturing (State) | Grimes, IA | 01/05/10 | 01/03/10
73213 | Johnson Controls, Inc. (Wkrs) | Livermore, CA | 01/05/10 | 01/04/10
73214 | Richard Fritz, Inc. (Wkrs) | Duncan, SC | 01/05/10 | 12/12/09
73215 | Central Manufacturing Company (Wkrs) | Parker City, IN | 01/06/10 | 01/06/10
73216 | Penske Logistics, LLC (Comp) | Evansville, IN | 01/06/10 | 01/05/10
73217 | Yazaki North America (Wkrs) | Fenton, MO | 01/06/10 | 01/04/10
73218 | IBM (Wkrs) | Armonk, NY | 01/07/10 | 01/06/10
73219 | IBM (Wkrs) | Boulder, CO | 01/07/10 | 01/05/10
73220 | Schweitzer-Maudult International, Inc. (Comp) | Spotswood, NJ | 01/07/10 | 01/06/10
73221 | Springs Window Fashions, LLC (Comp) | Montgomery, PA | 01/07/10 | 01/06/10
73222 | Weyerhaeuser Longview Logging/Forestry Operations (Union) | Castle Rock, WA | 01/07/10 | 01/05/10
73223 | American Bridge Company (Wkrs) | Reedsport, OR | 01/07/10 | 01/04/10
73224 | Job Works (Work One) (Wkrs) | Connersville, IN | 01/07/10 | 01/06/10
73225 | Custom Hoists (Union) | Hayesville, OH | 01/07/10 | 01/05/10
73226 | Freedom Communications/The Gazette (Wkrs) | Colorado Springs, CO | 01/07/10 | 01/06/10
73227 | Rexam Beverage Can North America (Wkrs) | Oklahoma City, OK | 01/07/10 | 12/13/09
73228 | Superior Technical (State) | Seattle, WA | 01/07/10 | 01/06/10
73229 | Barnes Aerospace (Wkrs) | Westchester, OH | 01/07/10 | 01/05/10
73230 | Plastic Omnium Automotive Extensions, LLC (Comp) | Anderson, SC | 01/08/10 | 01/06/10
73231 | Quaker Chemical Corporation (Wkrs) | Detroit, MI | 01/08/10 | 12/16/09
73232 | R.L. Torresdal Company (State) | Osslan, IA | 01/08/10 | 12/08/09
73233 | Local Insight Yellow Pages (Wkrs) | Hudson, OH | 01/08/10 | 01/07/10
73234 | Gerber Technology (Comp) | Richardson, TX | 01/08/10 | 12/15/09
73235 | ALD Thermal Treatment (Comp) | Blythewood, SC | 01/08/10 | 01/06/10
73236 | Xeel Mold & Machine Inc. (Comp) | North Canton, OH | 01/08/10 | 01/04/10

[FR Doc. 2010-3005 Filed 2-12-10; 8:45 am]

BILLING CODE 4510-FN-P